DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated National and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treas.gov/ofac).

Notice of OFAC Actions

On November 20, 2017, OFAC determined that the property and interests in property subject to U.S. jurisdiction of the following persons are blocked under the relevant sanctions authorities listed below.

Individuals

1. HEIDARI, Reza; DOB 10 Jan 1977; Additional Sanctions Information—Subject to Secondary Sanctions; Gender Male; Passport A37899489 (Iran) expires 26 Jul 2021; alt. Passport R24530943 (Iran) expires 23 Jun 2017 (individual) [SDGT] [IRGC] [IFSR].

Designated pursuant to sections 1(c) and 1(d)(i) of Executive Order 13224 of September 23, 2001, “Blocking Property and Prohibiting Transactions With Persons Who Commit, Threaten to Commit, or Support Terrorism,” (E.O. 13224) for having acted for or on behalf of, and for having assisted in, sponsored, or provided financial, material, techological support for, or financial or other services to or in support of, Iran's ISLAMIC REVOLUTIONARY GUARD CORPS-QODS FORCE, a person determined to be subject to E.O. 13224.

2. SEIF, Mahmoud (a.k.a. AL-SAYF, Mahmud; a.k.a. SAJADDINIA, Mohsen; a.k.a. SAJADINIA, Mohsen; a.k.a. SAJJADI NIA, Mohsen; a.k.a. SAJJADINIA, Mohsen); DOB 05 Jun 1964; alt. DOB 05 Jun 1967; alt. DOB 05 Jun 1969; Additional Sanctions Information—Subject to Secondary Sanctions; Gender Male (individual) [SDGT] [IRGC] [IFSR].

Designated pursuant to section 1(d)(i) of E.O. 13224 for having assisted in, sponsored, or provided financial, material, techological support for, or financial or other services to or in support of, Iran's ISLAMIC REVOLUTIONARY GUARD CORPS-QODS FORCE, a person determined to be subject to E.O. 13224

Entities

1. FORENT TECHNIK GMBH, Konrad-Duden-Weg 1, Frankfurt am Main, Hessen 60437, Germany; Additional Sanctions Information—Subject to Secondary Sanctions; Registration ID 60313B102980 (Germany); alt. Registration ID HRB102980 (Germany) [SDGT] [IRGC] [IFSR].

Designated pursuant to section 1(c) of E.O. 13224 for being owned or controlled by REZA HEIDARI, a person determined to be subject to E.O. 13224.

2. PARDAZESH TASVIR RAYAN CO. (a.k.a. RAYAN IMAGE PROCESSING CORPORATION; a.k.a. RAYAN PRINTING), No. 9, 22nd St., 9th Km. of Karaj Special Rd., 1389843613, Tehran, Iran; Africa St., West Nahid St., Akhtaran Ave., p. 57, 1967773314, Tehran, Iran; Additional Sanctions Information—Subject to Secondary Sanctions; National ID No. 10102041648 (Iran); Registration ID 161530 (Iran) [SDGT] [IRGC] [IFSR].

Designated pursuant to section 1(c) of E.O. 13224 for being owned by TEJARAT ALMAS MOBIN HOLDING, a person determined to be subject to E.O. 13224; pursuant to 1(c) of E.O. 13224 for being controlled by REZA HEIDARI, a person determined to be subject to E.O. 13224; and pursuant to 1(c) and 1(d)(i) of E.O. 13224 for having acted for or on behalf of, and for having assisted in, sponsored, or provided financial, material, techological support for, or financial or other services to or in support of, Iran's ISLAMIC REVOLUTIONARY GUARD CORPS-QODS FORCE, a person determined to be subject to E.O. 13224.

3. PRINTING TRADE CENTER GMBH (a.k.a. PTC GMBH), Konrad Duden Weg 3, 60437, Frankfurt am Main, Germany; Schubertstr. 1 a, 65760, Eschborn, Hessen, Germany; Web site www.ptccenter.de; Additional Sanctions Information—Subject to Secondary Sanctions; Registration ID HRB58893 (Germany) [SDGT] [IRGC] [IFSR].

Designated pursuant to sections 1(c) and 1(d)(i) of E.O. 13224 for having acted for or on behalf of, and for having assisted in, sponsored, or provided financial, material, techological support for, or financial or other services to or in support of, REZA HEIDARI, a person determined to be subject to E.O. 13224.

4. TEJARAT ALMAS MOBIN HOLDING (a.k.a. ALMAS MOBIN TRADING), 57 Akhtaran Lane, West Nahid Street, Africa Blvd., Tehran, Iran; Additional Sanctions Information—Subject to Secondary Sanctions [SDGT] [IRGC] [IFSR].

Designated pursuant to section 1(c) of E.O. 13224 for being owned or controlled by MAHMOUD SEIF, a person determined to be subject to E.O. 13224.

Dated: November 20, 2017.
John E. Smith,
Director, Office of Foreign Assets Control.

[FR Doc. 2017-25792 Filed 11-29-17; 8:45 am]

BILLING CODE 4810-AL-P